DEPARTMENT OF HOUSING AND URBAN DEVELOPMENT

[Docket No. FR-5300-FA-26]

Announcement of Funding Awards for Fiscal Year 2009 Doctoral Dissertation Research Grant Program

AGENCY: Office of the Assistant Secretary for Policy Development and Research, HUD.

ACTION: Announcement of funding awards.

SUMMARY: In accordance with Section 102(a)(4)(C) of the Department of Housing and Urban Development (HUD) Reform Act of 1989, this document notifies the public of funding awards for the Fiscal Year (FY) 2009 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8226, 451 Seventh Street, SW., Washington, DC 20410, Telephone (202) 402-3852. To provide service for persons who are hearing- or speech-impaired, this number may be reached via TTY by dialing the Federal Information Relay Service on (800) 877-8339 or (202) 708-1455. (Telephone numbers, other than “800” TTY numbers, are not toll free).

SUPPLEMENTARY INFORMATION: The DDRG Program was created as a means of expanding the number of researchers conducting research on subjects of interest to HUD. Doctoral candidates can receive grants of up to $25,000 to complete work on their dissertations. Grants are awarded for a two-year period.

The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517.

On July 8, 2009, a Notice of Funding Availability (NOFA) for this program was posted on Grants.gov announcing the availability of $200,000 in FY 2009 for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545). More information about the winners can be found at http://www.oup.org.

Dated: September 17, 2009.
Raphael W. Bostic,
Assistant Secretary for Policy Development and Research.

List of Awardees for Grant Assistance Under the Fiscal Year (FY) 2009 Doctoral Dissertation Reseach Grant Program Funding Competition, by Institution, Address, Grant Amount and Name of Student Funded

1. The Regents of the University of California, Julian Chun-Chung Chow, Ph.D., The Regents of the University of California, School of Social Welfare, 2150 Shattuck Avenue, Suite 313, Berkeley, CA 94704-5940. Grant: $25,000 to Richard Smith.

2. New York University, Jeff Manza, New York University, Department of Sociology, 665 Broadway, Suite 801, New York, NY 10012. Grant: $15,195.73 to Brian McCabe.

3. The University of Illinois at Chicago, Janet L. Smith, The University of Illinois at Chicago, Department of Urban Planning and Policy, 809 South Marshfield, 502 MB, M/C551, Chicago, IL 60612-7205. Grant: $25,000 to Andrew Greenlee.

4. Trustees of Boston University, Judith G. Gonyea, Ph.D., Trustees of Boston University, School of Social Work, 881 Commonwealth Avenue, Boston, MA 02215. Grant: $19,450 to Kelly Mills-Dick.

5. The Regents of the University of California, Allison Crowther, The Regents of the University of California, Department of Planning, Policy and Design, Office of Research Administration, Irvine, CA 92697-7600. Grant: $15,418.50 to Michael Powe.

6. The Trustees of Princeton University, Mitchell Duneier, The Trustees of Princeton University, Department of Sociology, PO Box 36, 4 New South Building, Princeton, NJ 08544-0036. Grant: $24,975.77 to Alexandra Murphy.

7. The University of Chicago, Dr. Andrew Abbott, The University of Chicago, Department of Sociology, 5801 South Ellis Avenue, Chicago, IL 60637. Grant: $25,000 to Len Albright.

8. New York University, Dr. Ingrid Gould Ellen, New York University, Department of Public Policy and Urban Planning, 665 Broadway, Suite 801, New York, NY 10012. Grant: $24,960 to Michael Lens.

9. The President and Fellows of Harvard College, Dr. Richard Peiser, The President and Fellows of Harvard College, Department of Urban Planning and Design, 1350 Massachusetts Avenue, Cambridge, MA 02138. Grant: $25,000 to Suzanne Charles.

[FR Doc. E9-23841 Filed 10-2-09; 8:45 am]

BILLING CODE 4210-67-P